DEPARTMENT OF LABOR

Office of the Assistant Secretary for Administration and Management

Agency Information Collection Activities; Revision; Comment Request; DOL Generic Solution for “Touch-Base” Activities

ACTION: Notice.

SUMMARY: The Department of Labor (DOL) is soliciting comments concerning the proposed extension of the DOL Generic Solution for “Touch-Base” Activities information collection request (ICR), as part of continuing Departmental efforts to reduce paperwork and respondent burden in accordance with the Paperwork Reduction Act of 1995 (PRA) (44 U.S.C. 3501 et seq.).

DATES: Submit written comments on or before February 1, 2016.

ADDRESSES: Contact Michel Smyth by telephone at 202-693-4129 (this is not a toll-free number) or by email at DOL_PRA_PUBLIC@dol.gov to request additional information, including requesting a copy of this ICR. Submit comments regarding this ICR, including suggestions for reducing the burden, by sending an email to DOL_PRA_PUBLIC@dol.gov. Comments may also be sent to Michel Smyth, Departmental Clearance Officer, U.S. Department of Labor, Office of the Chief Information Officer, 200 Constitution Avenue NW., Room N-1301, Washington, DC 20210.

Authority: 44 U.S.C. 3506(c)(2)(A).

SUPPLEMENTARY INFORMATION: The DOL has a need periodically to collect information from the public that help assess Departmental policies, products, and services and lead to improvements in areas deemed necessary. This information collection activity provides a means to garner qualitative customer and stakeholder feedback in an efficient, timely manner. By qualitative feedback the DOL means information that provides useful insights on perceptions and opinions, but does not entail statistical surveys that yield quantitative results that can be generalized to the population of study. This feedback will provide insights into customer or stakeholder perceptions, experiences and expectations, provide an early warning of issues interest, or focus attention on areas where communication, training, or changes in operations might improve delivery of products or services. These collections will allow for ongoing, collaborative, and actionable communications between the DOL and its customers and stakeholders. It will also allow feedback to contribute directly to the improvement of program management. This information collection is subject to the PRA.

More specifically, the DOL will only submit a collection for approval under this generic clearance if it meets the following conditions:

• The collection is voluntary;

• The collection is low-burden for respondents (based on considerations of total burden hours, total number of respondents, or burden-hours per respondent) and is low-cost for both the respondents and the Federal Government;

• The collection may focus on high-level stakeholder views regarding emerging topics of pressing policy interest or on operational issues and DOL products and services that may not be suitable for clearance under the DOL generic solution for qualitative feedback on service delivery;

• The collection is targeted to the solicitation of opinions from respondents who have experience with the program or issues under consideration;

• Information gathered will yield qualitative information; the collection will not be designed or be expected to yield statistically reliable results or be used as though the results are generalizable to the population of study.

A Federal agency generally cannot conduct or sponsor a collection of information, and the public is generally not required to respond to an information collection, unless it is approved by the Office of Management and Budget (OMB) under the PRA and displays a currently valid OMB Control Number. In addition, notwithstanding any other provisions of law, no person shall generally be subject to penalty for failing to comply with a collection of information if the collection of information does not display a valid Control Number. See 5 CFR 1320.5(a) and 1320.6. The DOL obtains OMB approval for this information collection under Control Number 1225-0059. This ICR would revise the collection to clarify that it may be used for policy choices, and would be similar to an ICR approved specifically for the Employment and Training Administration that is designed to get quick feedback on issues of interest to that agency.

The DOL, as part of its continuing effort to reduce paperwork and respondent burden, conducts a pre-clearance consultation program to provide the general public and Federal agencies an opportunity to comment on proposed and/or continuing collections of information before they are submitted to the OMB. This program helps to ensure requested data can be provided in the desired format, reporting burden (time and financial resources) is minimized, collection instruments are clearly understood, and the impact of collection requirements can be properly assessed. Interested parties are encouraged to provide comments to the individual listed in the ADDRESSES section above. Comments must be written to receive consideration, and they will be summarized and may be included in the request for OMB approval of the final ICR. The comments will become a matter of public record.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Office of the Assistant Secretary for Administration and Management.

Type of Review: Revision of a currently approved collection.

Title of Collection: DOL Generic Solution for “Touch-Base” Activities.

OMB Control Number: 1225-0059.

Affected Public: Individuals or households; Private Sector—businesses or other for-profits, farms, and not for-profit institutions; and State, Local, and Tribal Governments.

Estimated Number of Respondents: 375,000.

Frequency: On occasion.

Total Estimated Annual Responses: 375,000.

Estimated Average Time per Response: 6 minutes.

Estimated Total Annual Burden Hours: 37,500 hours.

Total Estimated Annual Cost Burden: $0.

Dated: November 25, 2015.
Michel Smyth,
Departmental Clearance Officer.

[FR Doc. 2015-30529 Filed 12-1-15; 8:45 am]

BILLING CODE 4510-04-P